DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans that are final within the meaning of 23 U.S.C. 139(l)(1). The actions relate to a proposed local assistance project, Bent Avenue Bridge [Federal Aid Number BRLS-NBIL(522)] and Via Vera Cruz Bridge [Federal Aid Number BRLS-5381(033)] in the City of San Marcos, in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 22, 2015. If the Federal law that authorizes judicial review of a claim provides a time period of less than 150 days for filing such claim, then that shorter time period still applies.

FOR FURTHER INFORMATION CONTACT: For Caltrans: Kevin Hovey, Chief, Environmental Branch D, California Department of Transportation—District 11, 4050 Taylor Street, San Diego, CA 92110, 8 a.m. to 5 p.m., 619-688-0240, kevin.hovey@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: The City of San Marcos proposes the replacement of Via Vera Cruz Bridge, the construction of a new Bent Avenue Bridge, and the widening of Discovery Street, in the City of San Marcos, San Diego County. The existing Via Vera Cruz Bridge between San Marcos Boulevard and Discovery Street would be replaced with a new bridge spanning over San Marcos Creek that would be longer in length and elevated higher above the current grade. The new Bent Avenue Bridge would be constructed between San Marcos Boulevard and Discovery Street, spanning San Marcos Creek where a low-water crossing currently exists. The portion of Discovery Street between approximately 400 feet west of Via Vera Cruz to just west of Bent Avenue would be reconstructed and widened from a two-lane facility to a four-lane facility. The actions by the Federal agencies, and the laws under which such actions were taken, are described in the Categorical Exclusion (CE) for the project, approved on January 6, 2015, and in other documents in the FHWA project records. The CE and other project records are available by contacting Caltrans at the addresses provided above. This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Noise Control Act of 1970;

8. 23 CFR part 772 FHWA Noise Standards, Policies and Procedures;

9. Department of Transportation Act of 1966, Section 4(f);

10. Clean Water Act of 1977 and 1987;

11. Endangered Species Act of 1973;

12. Migratory Bird Treaty Act;

13. Uniform Relocation Assistance and Real Property Acquisition Act of 1970;

14. National Historic Preservation Act of 1966, as amended;

15. Historic Sites Act of 1935;

16. Executive Order 11990, Protection of Wetlands

17. Executive Order 13112, Invasive Species; and,

18. Executive Order 11988, Floodplain Management.

(Catalog of Federal Domestic Assistance Program Number 20.205, Highway Planning and Construction. The regulations implementing Executive Order 12372 regarding intergovernmental consultation on Federal programs and activities apply to this program.)

Authority: 23 U.S.C. 139(l)(1).

Dated: January 15, 2015.
Zylkia Martin-Yambo,
Team Leader South, Project Delivery, Federal Highway Administration, Sacramento, California.

[FR Doc. 2015-00987 Filed 1-21-15; 8:45 am]

BILLING CODE 4910-RY-P